DEPARTMENT OF HEALTH AND HUMAN SERVICES

Food and Drug Administration

9th Annual FDA Science Forum—“FDA Science: Protecting America's Health”

ACTION: Notice of meeting.

The Food and Drug Administration (FDA), Office of Science is announcing the following meeting entitled “9th Annual FDA Science Forum—FDA Science: Protecting America's Health.” The Science Forum is FDA's key scientific meeting that seeks to communicate and promote scientific issues relating to scientific development and associated regulatory concerns. Open to the public, the 2003 Forum is designed to bring FDA scientists together with representatives from industry, academia, government agencies, consumer and patient advocacy groups, and international constituents to explore emerging public health issues and to learn and share knowledge and ideas of the science-based mission of the agency.

Date and Time: The Science Forum will be held on Thursday and Friday, April 24 and 25, 2003. On April 24, 2003, registration will be from 7:30 a.m. to 4:30 p.m. and the meeting from 8:30 a.m. to 6:30 p.m. On April 25, 2003, registration will be from 7 a.m. to 1 p.m. and the meeting from 8 a.m. to 5:30 p.m.

Location: New Washington Convention Center, Mount Vernon Square, Washington, DC 20001.

Contact: Susan Bond, FDA, Office of Science (HF-33), 5600 Fishers Lane, Rockville, MD 20857, 301-827-6687, e-mail: sbond@oc.fda.gov

.

Registration: Complete detailed program, and exhibitor information are available at www.dcscienceforum.org. (FDA has verified the Web site address, but is not responsible for subsequest changes to the Web site after this document publishes in the Federal Register.) Due to limited seating, interested parties are encouraged to register early. If you need special accommodations due to a disability, please contact dmentch@oc.fda.gov or 301-827-3038.

SUPPLEMENTARY INFORMATION: The Science Forum will focus on three plenary tracks with corresponding break-out sessions in the areas of:

• Risk management & risk assessment

• Novel science initiatives at FDA

• FDA's mission post- 9/11/01 and beyond

A poster session featuring all areas of FDA regulatory science will be presented to provide an opportunity for interested scientists to engage in information exchange with FDA scientists.

An exhibition of scientific products, services, and professional societies sponsored by Williamsburg BioProcessing Foundation will be held during the entire event. Interested exhibitors should contact: clsokker@wilbio.com. (FDA has verified the Web site address but is not responsible for subsequent changes to the Web site after this document publishes in the Federal Register.) An FDA Job Fair will be held as part of this exhibition.

This event is co-sponsored by the FDA Office of Science & Health Coordination, Williamsburg BioProcessing Foundation, AOAC International, California Separation Science Society, and the FDA Chapter of Sigma Xi, The Scientific Research Society.

Dated: April 4, 2003.
William K. Hubbard,
Associate Commissioner for Policy and Planning.

[FR Doc. 03-8759 Filed 4-9-03; 8:45 am]

BILLING CODE 4160-01-S